DEPARTMENT OF COMMERCE

National Oceanic and Atmospheric Administration

50 CFR Part 648

[I.D. 090500A]

New England Fishery Management Council; Public Meeting

AGENCY: National Marine Fisheries Service (NMFS), National Oceanic and Atmospheric Administration (NOAA), Commerce.

ACTION: Public meetings.

SUMMARY: The New England Fishery Management Council (Council) will hold a 3-day public meeting on September 26, 27, and 28, 2000, to consider actions affecting New England fisheries in the exclusive economic zone (EEZ). During this timeframe, the Council's Herring Oversight Committee also will meet.

DATES: The Herring Oversight Committee will meet on Tuesday, September 26 at 8:30 a.m. Following the committee meeting, the full Council will meet on Tuesday, September 26 at 10:30 a.m., and on Wednesday, September 27, and Thursday, September 28, 2000, beginning at 8:30 a.m.

ADDRESSES: The meetings will be held at the Holiday Inn Express (formerly Seaport Inn Conference Center), 110 Middle Street, Fairhaven, MA 02719; telephone (508) 997-1281. Requests for special accommodations should be addressed to the New England Fishery Management Council, 50 Water Street, Mill 2, Newburyport, MA 01950; telephone (978) 465-0492.

FOR FURTHER INFORMATION CONTACT: Paul J. Howard, Executive Director, New England Fishery Management Council, (978) 465-0492.

SUPPLEMENTARY INFORMATION:

Tuesday, September 26, 2000

The Herring Oversight Committee will meet to develop recommendations for consideration by the full Council on herring foreign fishing permit conditions and restrictions. Recommendations may be specific to a permit application already submitted by Lithuania, or may be applicable to any subsequent permit applications received for the 2001 fishing year (January 1, 2001-December 31, 2001). Following the Herring Committee meeting, the Council will swear in new and re-appointed members, and elect 2000-2001 officers. The Herring Committee will then provide its recommendations on herring foreign fishing permit conditions and restrictions. The Capacity Committee will recommend for consideration by the Groundfish Committee proposals that will allow the transfer of fishing permits, address latent (unused) days-at-sea (DAS), and allow the transfer of groundfish DAS.

Wednesday, September 27, 2000

The Scallop Committee's report will be presented on the second day of the Council meeting and will include a presentation of the 2000 Stock Assessment and Fishery Evaluation (SAFE) Report on the sea scallop resource. The Council will also consider approval of initial action on the annual adjustment to the Atlantic Sea Scallop Fishery Management Plan (FMP). Discussion will focus on selection of management alternatives. Issues may include, but are not limited to, DAS allocations, access to the Hudson Canyon and Virginia/North Carolina closed areas, new area closures, and a prohibition on shell stocking.

Thursday, September 28, 2000

The third day of the meeting will begin with reports on recent activities from the Council Chairman, Executive Director, the NMFS Regional Administrator, Northeast Fisheries Science Center and Mid-Atlantic Fishery Management Council liaisons, and representatives of the Coast Guard, NMFS Enforcement and the Atlantic States Marine Fisheries Commission. There will also be a report on the Northwest Atlantic Fisheries Organization's most recent meeting. The Groundfish Overfishing Definition Committee will report on its review of the Council's overfishing definitions. The Groundfish Committee will then provide an update on development of management options for Amendment 13 to the Northeast Multispecies FMP, including a discussion of alternatives within the status quo management option, area management option(s), and a sector allocation option. The chairman also will report on committee discussions concerning rebuilding schedules of overfished groundfish stocks. Following the Groundfish Committee discussions, there will be a presentation of the available skate stock assessment and fishery information to be included in the Skate SAFE Report. The Skate Committee will provide its recommendation on issues to be included in a scoping document for a Skate FMP. The Enforcement Committee will provide the Council with its recommendations concerning a safe harbor experimental fishery that would allow vessels to enter Gloucester Harbor without unloading haddock trip limit overages. The Habitat Committee will ask the Council to approve a response to the Atlantic States Marine Fisheries Commission’s request for comments on a report about gear impacts on submerged aquatic vegetation. There will be updates on the activities of the Mid-Atlantic Council’s FMPs’ Research Steering and Monkfish Committees. After addressing any other outstanding business, the Council will adjourn.

Although other non-emergency issues not contained in this agenda may come before this Council for discussion, those issues may not be the subject of formal action during this meeting. Council action will be restricted to those issues specifically listed in this notice and any issues arising after publication of this notice that require emergency action under section 305(c) of the Magnuson-Stevens Act, provided the public has been notified of the Council's intent to take final action to address the emergency.

The Council will consider public comments at a minimum of two Council meetings before making recommendations to the NMFS Regional Administrator on any framework adjustment to a fishery management plan. If she concurs with the adjustment proposed by the Council, the Regional Administrator has the discretion to publish the action either as proposed or final regulations in the Federal Register. Documents pertaining to framework adjustments are available for public review 7 days prior to a final vote by the Council.

Special Accommodations

This meeting is physically accessible to people with disabilities. Requests for sign language interpretation or other auxiliary aids should be directed to Paul J. Howard (see ADDRESSES) at least 5 days prior to the meeting date.

Dated: September 7, 2000.
Bruce C. Morehead,
Acting Director, Office of Sustainable Fisheries, National Marine Fisheries Service.

[FR Doc. 00-23399 Filed 9-11-00; 8:45 am]

BILLING CODE 3510-22-S